DEPARTMENT OF DEFENSE

Department of the Navy

Privacy Act of 1974; System of Records

AGENCY: Department of the Navy, DoD.

ACTION: Notice to amend a system of records.

SUMMARY: The Department of the Navy is amending 12 systems of records notices in its existing inventory of records systems subject to the Privacy Act of 1974, (5 U.S.C. 552a), as amended. The amendment consists of changing the URL for the Standard Navy Distribution List to http://neds.daps.dla.mil/sndl.htm. The notices affected are N01070-3, NM01543-1, N01650-1, NM05000-1, NM05000-2, NM05000-3, NM05100-4, NM05211-1, NM05380-1, NM05720-1, NM06150-3, and NM12610-1.

DATES: This proposed action will be effective without further notice on December 16, 2004, unless comments are received which result in a contrary determination.

ADDRESSES: Send comments to Department of the Navy, PA/FOIA Policy Branch, Chief of Naval Operations, (DNS-36), 2000 Navy Pentagon, Washington, DC 20350-2000.

FOR FURTHER INFORMATION CONTACT: Mrs. Doris Lama at (202) 685-6545 or DSN 325-6545.

SUPPLEMENTARY INFORMATION: The Department of the Navy systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: November 8, 2004.
Jeannette Owings-Ballard,
OSD Federal Register Liaison Officer, Department of Defense.

N01070-3

System name:

Navy Military Personnel Records System (May 11, 2004, 69 FR 26083).

System location:

Primary locations: Navy Personnel Command (PERS-312), 5720 Integrity Drive, Millington, TN 38055-3120 for records of all active duty and reserve members (except Individual Ready Reserve (IRR)); and for records of members that were retired, discharged, or died while in service since 1995;

Naval Reserve Personnel Center, 4400 Dauphine Street, New Orleans, LA 70149-7800 for records of all IRR members;

National Personnel Records Center, Military Personnel Records, 9700 Page Avenue, St. Louis, MO 63132-5100 for records of members that were retired, discharged, or died while in service prior to 1995.

Secondary locations: Personnel Offices and Personnel Support Detachments providing administrative support for the local activity where the individual is assigned. Official mailing addresses are published in the Standard Navy Distribution List available at http://neds.daps.dla.mil/sndl.htm.

Categories of individuals covered by the system:

All Navy military personnel: officers, enlisted, active, inactive, reserve, fleet reserve, retired, midshipmen, officer candidates, and Naval Reserve Officer Training Corps personnel.

Categories of records in the system:

Personnel service jackets and service records, correspondence and records in both automated and non-automated form concerning classification, assignment, distribution, promotion, advancement, performance, recruiting, retention, reenlistment, separation, training, education, morale, personal affairs, benefits, entitlements, discipline and administration of naval personnel.

Authority for maintenance of the system:

10 U.S.C. 5013, Secretary of the Navy; 42 U.S.C. 10606 as implemented by DoD Instruction 1030.1, Victim and Witness Assistance Procedures; and E.O. 9397 (SSN).

Purpose(s):

To assist officials and employees of the Navy in the management, supervision and administration of Navy personnel (officer and enlisted) and the operations of related personnel affairs and functions.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of the National Research Council in Cooperative Studies of the National History of Disease, of Prognosis and of Epidemiology. Each study in which the records of members and former members of the naval service are used must be approved by the Chief of Naval Personnel.

To officials and employees of the Department of Health and Human Services, in the performance of their official duties related to eligibility, notification and assistance in obtaining health and medical benefits by members and former members of the Navy.

To the U.S. Citizenship and Immigration Services for use in alien admission and naturalization inquiries.

To the Office of Personnel Management for verification of military service for benefits, leave, or reduction-in-force purposes, and to establish Civil Service employee tenure and leave accrual rate.

To the Director of Selective Service System in the performance of official duties related to registration with the Selective Service System.

To the Social Security Administration to obtain or verify Social Security Numbers or to substantiate applicant's credit for social security compensation.

To officials and employees of the Department of Veterans Affairs in the performance of their duties relating to approved research projects, and for processing and adjudicating claims, benefits, and medical care.

To officials of the U.S. Coast Guard (USCG) for the purpose of creating service records for current USCG members that had prior service with the Navy.

To officials and employees of Navy Relief and the American Red Cross in the performance of their duties relating to the assistance of the members and their dependents and relatives, or related to assistance previously furnished such individuals, without regard to whether the individual assisted or his/her sponsor continues to be a member of the Navy. Access will be limited to those portions of the member's record required to effectively assist the member.

To duly appointed Family Ombudsmen in the performance of their duties related to the assistance of the members and their families.

To state and local agencies in the performance of their official duties related to verification of status for determination of eligibility for Veterans Bonuses and other benefits and entitlements.

To officials and employees of the Office of the Sergeant at Arms of the United States House of Representatives in the performance of their official duties related to the verification of the active duty naval service of Members of Congress. Access is limited to those portions of the member's record required to verify service time.

To provide information and support to victims and witnesses in compliance with the Victim and Witness Assistance Program, the Sexual Assault Prevention and Response Program, and the Victims' Rights and Restitution Act of 1990.

Information as to current military addresses and assignments may be provided to military banking facilities who provide banking services overseas and who are reimbursed by the Government for certain checking and loan losses. For personnel separated, discharged or retired from the Armed Forces information as to last known residential or home of record address may be provided to the military banking facility upon certification by a banking facility officer that the facility has a returned or dishonored check negotiated by the individual or the individual has defaulted on a loan and that if restitution is not made by the individual the United States Government will be liable for the losses the facility may incur.

To Federal, state, local, and foreign (within Status of Forces agreements) law enforcement agencies or their authorized representatives in connection with litigation, law enforcement, or other matters under the jurisdiction of such agencies.

Information relating to professional qualifications of chaplains may be provided to civilian certification boards and committees, including, but not limited to, state and Federal licensing authorities and ecclesiastical endorsing organizations.

To governmental entities or private organizations under government contract to perform random analytical research into specific aspects of military personnel management and administrative procedures.

To Federal agencies, their contractors and grantees, and to private organizations, such as the National Academy of Sciences, for the purposes of conducting personnel and/or health-related research in the interest of the Federal government and the public. When not considered mandatory, the names and other identifying data will be eliminated from records used for such research studies.

The DoD “Blanket Routine Uses” that appear at the beginning of the Navy's compilation of system of record notices also apply to this system.

Policies and practices for storing, retrieving, accessing, retaining, and disposing of records in the system:

Storage:

Automated records may be stored on magnetic tapes, disc, and drums. Manual records may be stored in paper file folders, microfiche or microfilm.

Retrievability:

Automated records may be retrieved by name and Social Security Number. Manual records may be retrieved by name, Social Security Number, enlisted service number, or officer file number.

Safeguards:

Computer facilities and terminals are located in restricted areas accessible only to authorized persons that are properly screened, cleared and trained. Manual records and computer printouts are available only to authorized personnel having a need-to-know.

Retention and disposal:

Those documents that are designated as temporary in the prescribing regulations remain in the record until their obsolescence, or the member is separated from the Navy, then are removed and provided to the individual. Those documents designated as permanent are submitted to Navy Personnel Command at predetermined times to form a single personnel record in the Electronic Military Personnel Records System (EMPRS), and remain in EMPRS permanently. Permanent records are transferred to the National Archives and Records Administration 62 years after the completion of the service member's obligated service.

System manager(s) and address:

Commander, Navy Personnel Command (PERS-312), 5720 Integrity Drive, Millington, TN 38055-3130; Commanding Officers, Officers in Charge, and Heads of Department of the Navy activities. Official mailing addresses are published in the Standard Navy Distribution List available at http://neds.daps.dla.mil/sndl.htm.

Notification procedure:

Individuals seeking to determine whether this system of records contains information about themselves should address written inquiries to:

Inquiries regarding permanent records of all active duty and reserve members (except Individual Ready Reserve (IRR)), former members discharged, deceased, or retired since 1995, should be addressed to the Commander, Navy Personnel Command (PERS-312), 5720 Integrity Drive, Millington, TN 38055-3120;

Inquiries regarding records of reserve members serving in the Individual Ready Reserve (IRR) should be addressed to the Commanding Officer, Naval Reserve Personnel Center, 4400 Dauphine Street, New Orleans, LA 70149-7800;

Inquiries regarding records of former members discharged, deceased, or retired before 1995 should be addressed to the Director, National Personnel Records Center, Military Personnel Records, 9700 Page Avenue, St. Louis, MO 63132-5100. You may access their Web site at http://www.nara.gov/regional/mpr.html to obtain guidance on how to access records;

Inquiries regarding field service records of current members should be addressed to the Personnel Office or Personnel Support Detachment providing administrative support to the local activity to which the individual is assigned. Official mailing addresses are published in the Standard Navy Distribution List available at http://neds.daps.dla.mil/sndl.htm.

The letter should contain full name, Social Security Number (and/or enlisted service number/officer file number), rank/rate, designator, military status, address, and signature of the requester.

Record access procedures:

Individuals seeking access to records about themselves contained in this system of records should address written inquiries to:

Commander, Navy Personnel Command (PERS-312), 5720 Integrity Drive, Millington, TN 38055-3120 for records of all active duty and reserve members (except Individual Ready Reserve (IRR);

Commanding Officer, Naval Reserve Personnel Center, 4400 Dauphine Street, New Orleans, LA 70149-7800;

Director, National Personnel Records Center, Military Personnel Records, 9700 Page Avenue, St. Louis, MO 63132-5100 for records of former members discharged, deceased, or retired before 1995. Visit their Web site at http://www.archives.gov/facilities/mo/st_louis/military_personnel_records.html to download SF180 to request records through regular mail or to file an electronic request for records;

The Personnel Office or Personnel Support Detachment providing administrative support to the local activity to which the individual is assigned for field service records of current members. Official mailing addresses are published in the Standard Navy Distribution List available at http://neds.daps.dla.mil/sndl.htm.

The letter should contain full name, Social Security Number (and/or enlisted service number/officer file number), rank/rate, designator, military status, address, and signature of the requester.

Current members, active and reserve, may visit the Navy Personnel Command, Records Review Room, Bldg 109, Millington, TN for assistance with records located in that building; or the individual may visit the local activity to which attached for access to locally maintained records. Proof of identification will consist of Military Identification Card for persons having such cards, or other picture-bearing identification.”

Contesting record procedures:

The Navy's rules for accessing records, and for contesting contents and appealing initial agency determinations are published in Secretary of the Navy Instruction 5211.5; 32 CFR part 701; or may be obtained from the system manager.

Record source categories:

Correspondence; educational institutions; Federal, State, and local court documents; civilian and military investigatory reports; general correspondence concerning the individual; official records of professional qualifications; Navy Relief and American Red Cross requests for verification of status.

Exemptions claimed for the system:

None.

NM01543-1

System name:

Explosives Handling Qualification/Certification Program (December 9, 2003, 68 FR 68613).

System location:

Organization elements of the Department of the Navy. Official mailing addresses are published in the Standard Navy Distribution List available at http://neds.daps.dla.mil/sndl.htm.

Categories of individuals covered by the system:

Navy, Marine Corps, civilian and contractor personnel involved in the process or evolution of explosives operations.

Categories of records in the system:

Training records contain copies of the individual's state driver's license, Social Security Number, date of birth, home and office addresses, medical certificate stating that an individual has passed an exam by a doctor and is authorized to handle explosives, forklift/government driver's license, date of exam and expiration date.

Authority for maintenance of the system:

10 U.S.C. 5013, Departmental Regulations; 10 U.S.C. 5041, Headquarters, Marine Corps; OPNAVINST 8020.14/MCO P8020.11, Department of the Navy Explosives Safety Program; and E.O. 9397 (SSN).

Purpose(s):

To record the names and training of all employees and their qualifications to work in certain categories of explosives operations.

To ensure all individuals performing explosives inspections can validate an individual's qualifications to perform a certain task.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Paper and electronic media.

Retrievability:

Name and/or Social Security Number.

Safeguards:

Documents are marked “FOR OFFICIAL USE ONLY—PRIVACY SENSITIVE” and are only distributed to those persons having an official need to know. Computerized records are password protected and only accessible by those persons with an official need to know.

Retention and disposal:

Retain on board and destroy three years after an employee terminates or is no longer involved in explosives processes.

System manager(s) and address:

Policy Official: Commanding Officer, Naval Ordnance Safety and Security Activity, 23 Strauss Avenue, Farragut Hall, Building D-323, Indian Head, MD 20640-5035.

Record Holder: Commanding officer or head of the organization in question. Official mailing addresses are published in the Standard Navy Distribution List available at http://neds.daps.dla.mil/sndl.htm.

Notification procedure:

Individuals seeking to determine whether information about themselves is contained in this system should address written inquiries to the Commanding officer or head of the organization in question. Individuals may inspect personnel certifying documents at local activity to which individual assigned. Official mailing addresses are published in the Standard Navy Distribution List available at http://neds.daps.dla.mil/sndl.htm.

Record access procedures:

Individuals seeking access to information about themselves contained in this system should address written inquiries to the Commanding officer or head of the organization in question. Individuals may inspect personnel certifying documents at local activity to which individual assigned. Official mailing addresses are published in the Standard Navy Distribution List available at http://neds.daps.dla.mil/sndl.htm.

Contesting record procedures:

The Department of the Navy's rules for accessing records, and for contesting contents and appealing initial agency determinations are published in Secretary of the Navy Instruction 5211.5; 32 CFR part 701; or may be obtained from the system manager.

Record source categories:

Individual, personnel files, physician, and supervisor.

Exemptions claimed for the system:

None.

N01650-1

System name:

Navy Military Awards System (May 13, 2004, 69 FR 26559).

System location:

Navy Department Awards System, Naval Computer Telecommunications Station, 1325 10th Street, Washington Navy Yard, DC 20374-5069; and organizational elements of the Department of the Navy. Official mailing addresses are published in the Standard Navy Distribution List available at http://neds.daps.dla.mil/sndl.htm.

Categories of individuals covered by the system:

All recipients of Navy personal awards, to include the U.S. Coast Guard, and Navy military personnel who receive personal awards from other U.S. Armed Forces.

Categories of records in the system:

Approved individual personal awards for 1967 and continuing; approved unit awards for 1941 and continuing; Navy Department Awards Web Service—File includes awards approved by the Secretary of the Navy and those authorized for approval by subordinate commanders. Record includes service member's name, service number/Social Security Number, award recommended, and award approved. A second section of the file contains activities awarded Unit Awards and the dates of eligibility; microfilm copies of approved World War II—1967 personal awards; Navy Department Awards Web Service electronic data base that includes data extracted from OPNAV Form 1650/3, Personal Award Recommendation, such as name, Social Security Number, type of award, approval authority, recommended award, approved award, meritorious start and end dates, service status of recipient, originator of the recommendation, designator, Unit Identification Codes, officer or enlisted, service component, rate/rating, pay grade, number of award recommended, assigned billet of individual, campaign designation, classified or unclassified designated award, date of recommendation, award approved date, approved award, chain of command data, extraordinary heroism determination, letter type, board serial number, pertinent facts, date forwarded to Secretary of the Navy, Board's recommendation, participating command field, Board meeting data, receipt date by Board of Decorations and Medals, name of unit, name of ship, command points of contact that includes telephone numbers and e-mail addresses, etc.

Authority for maintenance of the system:

10 U.S.C. 5013, Secretary of the Navy; Secretary of the Navy Instruction 1650.1G, Navy and Marine Corps Awards Manual; and E.O. 9397 (SSN).

Purpose(s):

To maintain records of military personal awards and unit awards and to electronically process award recommendations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Electronic, paper, and microfilm records.

Retrievability:

Name, Social Security Number, and individual unit name.

Safeguards:

Automated database requires authorized access; password protected; some user sites only have read capability; designated user capability regarding add/delete/change functions. Paper and microfiche records are under the control of authorized personnel during working hours and the office space in which records are located is locked outside official working hours.

Retention and disposal:

Permanent. A duplicate copy of the active file is provided to the National Archives and Records Administration. History files for the years 1967 to 1989 have been transferred to NARA.

System manager(s) and address:

Chief of Naval Operations (DNS-37), 2000 Navy Pentagon, Washington, DC 20350-2000.

Notification procedure:

Individuals seeking to determine whether this system of records contains information about themselves should contact their local Personnel Support Activity or Personnel Support Detachment for a search of their Navy military personnel record or write to the Chief of Naval Operations (DNS-37) 2000 Navy Pentagon, Washington, DC 20350-2000.

Request should include full name, Social Security Number, time period of award, and request must be signed.

Record access procedures:

Individuals seeking access to records about themselves contained in this system of records should contact their local Personnel Support Activity or Personnel Support Detachment for a search of their Navy military personnel record or write to the Chief of Naval Operations (DNS-37) 2000 Navy Pentagon, Washington, DC 20350-2000.

Request should include full name, Social Security Number, time period of award, and request must be signed.

Contesting record procedures:

The Navy's rules for accessing records and contesting contents and appealing initial agency determinations are published in Secretary of the Navy Instruction 5211.5; 32 CFR part 701; or may be obtained from the system manager.

Record source categories:

Navy Department Awards Web Service; OPNAV Form 1650/3, Personal Award Recommendation Form; general orders; military personnel file; medical file; deck logs; command histories; and award letter 1650.

Exemptions claimed for the system:

None.

NM05000-1

System name:

General Correspondence Files (February 23, 2004, 69 FR 8187).

System location:

Organizational elements of the Department of the Navy. Official mailing addresses are published in the Standard Navy Distribution List available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Individuals who have initiated correspondence with the Department of the Navy.

Categories of records in the system:

Incoming correspondence which may include name, address, telephone number, organization, date of birth, and Social Security Number of correspondent and supporting documentation. Files also contain copy of response letter and documentation required to prepare the response.

Authority for maintenance of the system:

10 U.S.C. 5013, Secretary of the Navy; 10 U.S.C. 5041, Headquarters, Marine Corp; and E.O. 9397 (SSN).

Purpose(s):

To maintain a record of correspondence received and responses made.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems notices apply to this system.

Policies and practices for storing, retrieving, accessing, retaining, and disposing of records in the system:

Storage:

Paper and automated records.

Retrievability:

Name, organization, and date of correspondence.

Safeguards:

Access is provided on need-to-know basis only. Manual records are maintained in file cabinets under the control of authorized personnel during working hours. The office space in which the file cabinets are located is locked outside of official working hours. Computer terminals are located in supervised areas. Access to computerized data is controlled by password or other user code system.

Retention and disposal:

Retained for two years and then destroyed.

System manager(s) and address:

Commanding officer of the activity in question. Official mailing addresses are published in the Standard Navy Distribution List available at http://neds.daps.dla.mil/sndl.htm.

Notification procedure:

Individuals seeking to determine whether this system of records contains information about themselves should address written inquiries to the commanding officer of the activity in question. Official mailing addresses are published in the Standard Navy Distribution List available at http://neds.daps.dla.mil/sndl.htm.

The request should contain full name and date individual wrote to the activity or received a response. Request must be signed.

Record access procedures:

Individuals seeking access to records about themselves contained in this system of records should address written inquiries to the commanding officer of the activity in question. Official mailing addresses are published in the Standard Navy Distribution List available at http://neds.daps.dla.mil/sndl.htm.

The request should contain full name and date individual wrote to the activity or received a response. Request must be signed.

Contesting record procedures:

The Navy's rules for accessing records, and for contesting contents and appealing initial agency determinations are published in Secretary of the Navy Instruction 5211.5; 32 CFR part 701; or may be obtained from the system manager.

Record source categories:

Individual concerned and records collected by the activity to respond to the request.

Exemptions claimed for the system:

None.

NM05000-2

System name:

Administrative Personnel Management System (February 23, 2004, 69 FR 8187).

System location:

Organizational elements of the Department of the Navy. Official mailing addresses are published in the Standard Navy Distribution List available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

All civilian, (including former members and applicants for civilian employment), military and contract employees.

Categories of records in the system:

Records and correspondence needed to manage personnel and projects, such as Name, Social Security Number, date of birth, photo id, grade and series or rank/rate, etc., of personnel; location (assigned organization code and/or work center code); MOS; labor code; payments for training, travel advances and claims, hours assigned and worked, routine and emergency assignments, functional responsibilities, clearance, access to secure spaces and issuance of keys, educational and experience characteristics and training histories, travel, retention group, hire/termination dates; type of appointment; leave; trade, vehicle parking, disaster control, community relations, (blood donor, etc), employee recreation programs; retirement category; awards; biographical data; property custody; personnel actions/dates; violations of rules; physical handicaps and health/safety data; veterans preference; postal address; location of dependents and next of kin and their addresses; mutual aid association memberships; union memberships; qualifications; computerized modules used to track personnel data; and other data needed for personnel, financial, line, safety and security management, as appropriate.

Authority for maintenance of the system:

10 U.S.C. 5013, Secretary of the Navy; 10 U.S.C. 5041, Headquarters, Marine Corps; and E.O. 9397 (SSN).

Purpose(s):

To manage, supervise, and administer programs for all Department of the Navy civilian and military personnel such as preparing rosters/locators; contacting appropriate personnel in emergencies; training; identifying routine and special work assignments; determining clearance for access control; record handlers of hazardous materials; record rental of welfare and recreational equipment; track beneficial suggestions and awards; controlling the budget; travel claims; manpower and grades; maintaining statistics for minorities; employment; labor costing; watch bill preparation; projection of retirement losses; verifying employment to requesting banking; rental and credit organizations; name change location; checklist prior to leaving activity; payment of mutual aid benefits; safety reporting/monitoring; and, similar administrative uses requiring personnel data. Arbitrators and hearing examiners in civilian personnel matters relating to civilian grievances and appeals.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Paper and automated records.

Retrievability:

Name, Social Security Number, employee badge number, case number, organization, work center and/or job order, supervisor's shop and code.

Safeguards:

Password controlled system, file, and element access based on predefined need-to-know. Physical access to terminals, terminal rooms, buildings and activities' grounds are controlled by locked terminals and rooms, guards, personnel screening and visitor registers.

Retention and disposal:

Destroy when no longer needed or after two years, whichever is later.

System manager(s) and address:

Commanding officer of the activity in question. Official mailing addresses are published in the Standard Navy Distribution List available at http://neds.daps.dla.mil/sndl.htm.

Notification procedure:

Individuals seeking to determine whether this system of records contains information about themselves should address written inquiries to the commanding officer of the activity in question. Official mailing addresses are published in the Standard Navy Distribution List available at http://neds.daps.dla.mil/sndl.htm.

The request should include full name, Social Security Number, and address of the individual concerned and should be signed.

Record access procedures:

Individuals seeking access to records about themselves contained in this system of records should address written inquiries to the commanding officer of the activity in question. Official mailing addresses are published in the Standard Navy Distribution List that is available at http://neds.daps.dla.mil/sndl.htm.

The request should include full name, Social Security Number, and address of the individual concerned and should be signed.

Contesting record procedures:

The Navy's rules for accessing records, and for contesting contents and appealing initial agency determinations are published in Secretary of the Navy Instruction 5211.5; 32 CFR part 701; or may be obtained from the system manager.

Record source categories:

Individual, employment papers, other records of the organization, official personnel jackets, supervisors, official travel orders, educational institutions, applications, duty officer, investigations, OPM officials, and/or members of the American Red Cross.

Exemptions claimed for the system:

None.

NM05000-3

System name:

Organization Locator and Social Roster (February 23, 2004, 69 FR 8187).

System location:

Organizational elements of the Department of the Navy. Official mailing addresses are published in the Standard Navy Distribution List available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Military and civilian personnel attached to the activity, Departments of the Navy and Defense, or other government agencies; family members; and guests or other invitees.

Categories of records in the system:

Manual or mechanized records. Includes information such as names, addresses, telephone numbers; official titles or positions and organizations; invitations, acceptances, regrets, protocol, and other information associated with attendants at functions. Locator records of personnel attached to the organization.

Authority for maintenance of the system:

10 U.S.C. 5013, Secretary of the Navy; 10 U.S.C. 5041, Headquarters, Marine Corps; and E.O. 9397 (SSN).

Purpose(s):

To notify personnel of arrival of visitors; recall personnel to duty station when required; locate individuals on routine matters; provide mail distribution and forwarding addresses; compile a social roster for official and non-official functions; send personal greetings and invitations; and locate individuals during medical emergencies, facility evacuations, and similar threat situations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Policies and practices for storing, retrieving, accessing, retaining, and disposing of records in the system:

Storage:

Manual and automated records.

Retrievability:

Name, Social Security Number, and/or organization code.

Safeguards:

Documents are marked “FOR OFFICIAL USE ONLY—PRIVACY SENSITIVE” and are only distributed to those persons having an official need to know. Computerized records are password protected and only accessible by those persons with an official need to know.

Retention and disposal:

Records are destroyed upon update of roster to add/delete individuals who have arrived/departed the organization.

System manager(s) and address:

Commanding officer of the activity in question. Official mailing addresses are published in the Standard Navy Distribution List available at http://neds.daps.dla.mil/sndl.htm.

Notification procedure:

Individuals seeking to determine whether this system of records contains information about themselves should address written inquiries to the commanding officer of the activity in question. Official mailing addresses are published in the Standard Navy Distribution List available at http://neds.daps.dla.mil/sndl.htm.

Record access procedures:

Individuals seeking access to records about themselves contained in this system of records should address written inquiries to the commanding officer of the activity in question. Official mailing addresses are published in the Standard Navy Distribution List that is available at http://neds.daps.dla.mil/sndl.htm.

Contesting record procedures:

The Navy's rules for accessing records, and for contesting contents and appealing initial agency determinations are published in Secretary of the Navy Instruction 5211.5; 32 CFR part 701; or may be obtained from the system manager.

Record source categories:

Individual and records of the activity.

Exemptions claimed for the system:

None.

NM05100-4

System name:

WESS Occupational Injuries/Illnesses System (March 24, 2004, 69 FR 13824).

System location:

Organizational elements of the Department of the Navy. Official mailing addresses are published in the Standard Navy Distribution List available at http://neds.daps.dla.mil/sndl.htm.

Categories of individuals covered by the system:

Department of Navy (DoN) military and civilian personnel, non-appropriated and foreign national civilian personnel, and DoD military personnel attached to DoN components, who are involved in accidents or occupational illnesses that result in lost time, government or private property damage or destruction, and personnel injury or death.

Categories of records in the system:

The system contains a civilian/military indicator, event reference number, case or file number, unit identification code (UIC), activity name, major command code, last name, first name and middle initial, department, sex, age, job title, marital status and number of dependents, rank/rate/grade, Social Security Number, date of mishap/illness, time of mishap/illness, general location of mishap/illness, lost workday count, injury/illness type, Occupational Safety and Health Administration (OSHA) code, part(s) of body injured, mishap/illness type, object involved (injury source), process control number (job/activity at time of mishap), chemical involved, chemical comments, formal training involved; case type (fatality, lost time, no lost time, first aid), mishap class, date of death, short narrative, start date, sent date, and claims information. The database also contains causal, 72-hour profile, involved chemical, involved sharp items, drug factors, licenses and certifications, safety course, personal protective equipment, dive log, dive saturation, dive treatment, parachute jump, vehicle, and insertion/ extraction/scaling technique information as is applicable to the type of mishap the individual is involved in.

Authority for maintenance of the system:

10 U.S.C. 5013, Secretary of the Navy; 10 U.S.C. 5041, Headquarters, Marine Corps; E.O. 9397 (SSN); E.O. 12196, Occupational Safety and Health Programs for Federal Employees; DoD Instruction 6055.7, Accident Investigation, Reporting, and Record Keeping; OPNAVINST 5102.1 series, Mishap Investigation and Reporting; and MCO P5102.1B, Marine Corps Ground Mishap Investigation and Reporting Manual.

Purpose(s):

To collect information on injuries and occupational illnesses required of Federal governmental agencies by the Occupational Safety and Health Administration (OSHA). The summary data of occupational injuries or illnesses maintained in this system will be used for analytical purposes to improve the Department of the Navy's accident prevention policies, procedures, standards, and operations, as well as ensure internal data quality assurance.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and electronic records.

Retrievability:

By individual's name, Social Security Number, location of the accident or illness, or date of mishap or illness.

Safeguards:

File cabinets and computer terminals are located in limited access areas and handled by personnel that are properly trained in working with automated Privacy Act systems of records. Computer terminals are password protected.

Retention and disposal:

Naval Safety Center computerized records are maintained for 20 fiscal years following the end of the fiscal year to which they relate. All other records held outside of the Naval Safety Center are maintained for five years following the end of the fiscal year to which they relate and then destroyed.

System manager(s) and address:

Policy Official: Commander, Naval Safety Center, 375 A Street, Norfolk, VA 23511-4399.

Record Holder: Organizational elements of the Department of the Navy. Official mailing addresses are published in the Standard Navy Distribution List available at http://neds.daps.dla.mil/sndl.htm.

Notification procedure:

Individuals seeking to determine whether information about themselves is contained in this system should address written inquiries to the Commanding Officer of the local activity where the mishap or injury occurred.

The request should contain full name, Social Security Number and address of the individual concerned and should be signed.

Record access procedures:

Individuals seeking access to information about themselves contained in this system should address written inquiries to the Commanding Officer of the local activity where the mishap or injury occurred.

The request should contain full name, Social Security Number and address of the individual concerned and should be signed.

Contesting record procedures:

The Navy's rules for accessing records, and for contesting contents and appealing initial agency determinations are published in Secretary of the Navy Instruction 5211.5; 32 CFR part 701; or may be obtained from the system manager.

Record source categories:

Safety Investigation Reports, departmental records such as personnel file excerpts, medical record excerpts, State and Federal records, and excerpts of police reports, witness statements and general correspondence.

Exemptions claimed for the system:

None.

NM05211-1

System name:

Privacy Act Request Files and Tracking System (January 5, 2004, 69 FR 333).

System location:

Organizational elements of the Department of the Navy. Official mailing addresses are published in the Standard Navy Distribution List (SNDL) available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Individuals who request information concerning themselves which is in the custody of the Department of the Navy or who request access to or amendment of such records in accordance with the Privacy Act of 1974, as amended.

Categories of records in the system:

Letters, memoranda, legal opinions, messages, and miscellaneous documents relating to an individual's request for access to or amendment of records concerning that person, including letters authorizing release to another individual, letters of denial, appeals, statements of disagreements, and related documents accumulated in processing requests received under the Privacy Act of 1974. Names, addresses, and other personal identifiers of the individual requester. Database which tracks action from start to finish.

Authority for maintenance of the system:

5 U.S.C. 552a, The Privacy Act of 1974, as amended; 10 U.S.C. 5013, Secretary of the Navy; 10 U.S.C. 5041, Headquarters, Marine Corps; E.O. 9397 (SSN); Secretary of the Navy Instruction 5211.5D, Department of the Navy Privacy Act Program.

Purpose(s):

To track, process, and coordinate individual requests for access and amendment of personal records; to process appeals on denials of requests for access or amendment to personal records; to compile information for reports, and to ensure timely response to requesters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Navy's compilation of systems of records notices also apply to this system.

Policies and practices for storing, retrieving, accessing, retaining, and disposing of records in the system:

Storage:

Maintained in file folders, microform, microfilm, manual/computerized databases, and/or optical disk.

Retrievability:

Name of requester; year request filed; serial number of response letter; case file number; etc.

Safeguards:

Records are accessed by custodian of the record system and by persons responsible for servicing the record system in performance of their official duties. Records are stored in locked cabinets or rooms. Computerized databases are password protected and accessed by individuals who have a need to know.

Retention and disposal:

Granted requests, responses to requests for non-existent records, responses to requesters who provide inadequate descriptions and responses to requesters who fail to pay agency reproduction fees that are not appealed are destroyed 2 years after date of reply; requests which are denied and are appealed are destroyed after 5 years; requests which are amended are retained for 4 years; requests for amendment which are refused are destroyed after 3 years; disclosure accounting forms are retained for the life of the record of 5 years after the disclosure, whichever is later; and privacy act databases are destroyed after 5 years.

System manager(s) and address:

Policy Official: Chief of Naval Operations (N09B10), 2000 Navy Pentagon, Washington, DC 20350-2000.

Record Holders: Organizational elements of the Department of the Navy. Official mailing addresses are published in the Standard Navy Distribution List (SNDL) available at http://neds.daps.dla.mil/sndl.htm.

Commander, U.S. Joint Forces Command, 1562 Mitscher Avenue, Suite 200, Norfolk, VA 23551-2488; and

Commander, U.S. Pacific Command, P.O. Box 64028, Camp H.M. Smith, HI 96861-4028. Official mailing addresses are published as an appendix to the Navy's compilation of systems of records notices.

Notification procedure:

Individuals seeking to determine whether information about themselves is contained in this system should address written inquiries to the commanding officer of the activity in question. Official mailing addresses are published in the Standard Navy Distribution List (SNDL) available at http://neds.daps.dla.mil/sndl.htm.

The request must be signed and contain the full name of the individual and one or more of the following kinds of information: year request filed; serial number of response letter; case file number.

Record access procedures:

Individuals seeking access to information about themselves contained in this system should address written inquiries to the commanding officer of the activity in question. Official mailing addresses are published in the Standard Navy Distribution List (SNDL) available at http://neds.daps.dla.mil/sndl.htm.

The request must be signed and contain the full name of the individual and one or more of the following kinds of information: year request filed; serial number of response letter; case file number.

Contesting record procedures:

The Department of the Navy's rules for accessing records, and for contesting contents and appealing initial agency determinations are published in Secretary of the Navy Instruction 5211.5; 32 CFR part 701; or may be obtained from the system manager.

Record source categories:

From the individual, Navy organizations, Department of Defense components, and other Federal, state, and local government agencies.

Exemptions claimed for the system:

During the course of a Privacy Act (PA) action, exempt materials from other systems of records may become part of the case records in this system of records. To the extent that copies of exempt records from those “other” systems of records are entered into these PA case records, the Department of the Navy hereby claims the same exemptions for the records as they have in the original primary systems of records of which they are a part.

Department of the Navy exemption rules have been promulgated in accordance with requirements of 5 U.S.C. 553(b)(1), (2), and (3), (c) and (e) published in 32 CFR part 701, Subpart G. For additional information contact the system manager.

NM05380-1

System name:

Combined Federal Campaign/Navy and Marine Corps Relief Society (January 5, 2004, 69 FR 333).

System location:

Organizational elements of the Department of the Navy. Official mailing addresses are published in the Standard Navy Distribution List (SNDL) available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

All assigned personnel.

Categories of records in the system:

Names, addresses, Social Security Numbers, payroll identifying data, contributor cards and lists.

Authority for maintenance of the system:

10 U.S.C. 5013, Secretary of the Navy; 10 U.S.C. 5041, Headquarters, Marine Corps; and, E.O.s 9397 (SSN), 10927 and 12353.

Purpose(s):

To manage the Combined Federal Campaign and Navy and Marine Corps Relief Society Fund drives and provide the respective campaign coordinator with necessary information. Payroll deduction contribution data is supplied to the Defense Finance and Accounting Service.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Manual and computerized records.

Retrievability:

Name, Social Security Number, and organization.

Safeguards:

Access is provided on need-to-know basis only. Manual records are maintained in file cabinets under the control of authorized personnel during working hours. The office space in which the file cabinets are located is locked outside of official working hours. Computer terminals are located in supervised areas. Access to computerized data is controlled by password or other user code system.

Retention and disposal:

Records are maintained for one year or completion of next equivalent campaign and then destroyed.

System manager(s) and address:

Commanding officer of the activity in question. Official mailing addresses are published in the Standard Navy Distribution List (SNDL) available at http://neds.daps.dla.mil/sndl.htm.

Notification procedure:

Individuals seeking to determine whether this system of records contains information about themselves should address written inquiries to the commanding officer of the naval activity where currently or previously employed. Official mailing addresses are published in the Standard Navy Distribution List (SNDL) available at http://neds.daps.dla.mil/sndl.htm.

The request should include full name, Social Security Number, address of the individual concerned, and should be signed.

Record access procedures:

Individuals seeking access to records about themselves contained in this system of records should address written inquiries to the commanding officer of the naval activity where currently or previously employed. Official mailing addresses are published in the Standard Navy Distribution List (SNDL) available at http://neds.daps.dla.mil/sndl.htm.

The request should include full name, Social Security Number, address of the individual concerned, and should be signed.

Contesting record procedures:

The Department of the Navy's rules for accessing records, and for contesting contents and appealing initial agency determinations are published in Secretary of the Navy Instruction 5211.5; 32 CFR part 701; or may be obtained from the system manager.

Record source categories:

Individual; payroll files; personnel files.

Exemptions claimed for the system:

None.

NM05720-1

System name:

FOIA Request Files and Tracking System (January 5, 2004, 69 FR 333).

System location:

Organizational elements of the Department of the Navy. Official mailing addresses are published in the Standard Navy Distribution List (SNDL) available at http://neds.daps.dla.mil/sndl.htm.

Categories of individuals covered by the system:

Individuals who request access to information under the provisions of the Freedom of Information Act (FOIA) or make an appeal under the FOIA.

Categories of records in the system:

FOIA request, copies of responsive records (redacted and released), correspondence generated as a result of the request, cost forms, memoranda, legal opinions, messages, and miscellaneous documents which related to the request.

Database used to track requests from start to finish and formulate response letters may contain names, addresses, and other personal identifiers of the individual requester.

Authority for maintenance of the system:

5 U.S.C. 552, the Freedom of Information Act, as amended; 10 U.S.C. 5013, Secretary of the Navy; 10 U.S.C. 5041, Headquarters, Marine Corps; E.O. 9397 (SSN); and Secretary of the Navy Instruction 5720.42F, Department of the Navy Freedom of Information Act Program.

Purpose(s):

To track, process, and coordinate requests/appeals/litigation made under the provisions of the FOIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals who file FOIA requests for access to information on who has made FOIA requests and/or what is being requested under FOIA.

The DoD “Blanket Routine Uses” set forth at the beginning of the Navy's compilation of systems of records notices also apply to this system.

Policies and practices for storing, retrieving, accessing, retaining, and disposing of records in the system:

Storage:

Maintained in file folders, microform, microfilm, manual/computerized databases, and/or optical disk.

Retrievability:

Name of requester; year request filed; serial number of response letter; case file number; etc.

Safeguards:

Records are accessed by custodian of the record system and by persons responsible for servicing the record system in performance of their official duties. Records are stored in cabinets or rooms, which are not viewable by individuals who do not have a need to know. Computerized databases are password protected and accessed by individuals who have a need to know.

Retention and disposal:

Granted requests, no record responses, and/or responses to requesters who fail to adequately described the records being sought or fail to state a willingness to pay processing fees are destroyed 2 years after date of reply. Requests which are denied in whole or in part, appealed, or litigated are destroyed 6 years after final action.

System manager(s) and address:

Policy Official: Chief of Naval Operations (N09B10), 2000 Navy Pentagon, Washington, DC 20350-2000.

Record Holders: Organizational elements of the Department of the Navy. Official mailing addresses are published in the Standard Navy Distribution List (SNDL) available at http://neds.daps.dla.mil/sndl.htm.

Notification procedure:

Individuals seeking to determine whether information about themselves is contained in this system should address written inquiries to the Freedom of Information Act coordinator or commanding officer of the activity in question. Official mailing addresses are published in the Standard Navy Distribution List (SNDL) available at http://neds.daps.dla.mil/sndl.htm.

The request should contain the full name of the individual and one or more of the following kinds of information: year request filed; serial number of response letter; case file number. Requests must also be signed.

Record access procedures:

Individuals seeking access to information about themselves contained in this system should address written inquiries to the Freedom of Information Act coordinator or commanding officer of the activity in question. Official mailing addresses are published in the Standard Navy Distribution List (SNDL) available at http://neds.daps.dla.mil/sndl.htm.

The request should contain the full name of the individual and one or more of the following kinds of information: year request filed; serial number of response letter; case file number. Requests must also be signed.

Contesting record procedures:

The Department of the Navy's rules for accessing records, and for contesting contents and appealing initial agency determinations are published in Secretary of the Navy Instruction 5211.5; 32 CFR part 701; or may be obtained from the system manager.

Record source categories:

From the individual, Navy organizations, Department of Defense components, and other Federal, state, and local government agencies.

Exemptions claimed for the system:

During the course of a FOIA action, exempt materials from other systems of records may in turn become part of the case records in this system. To the extent that copies of exempt records from those “other” systems of records are entered into this FOIA case record, the Department of the Navy hereby claims the same exemptions for the records from those “other” systems that are entered into this system, as claimed for the original primary systems of records which they are a part.

Department of the Navy exemption rules have been promulgated in accordance with requirements of 5 U.S.C. 553(b)(1), (2), and (3), (c) and (e) published in 32 CFR part 701, Subpart G. For additional information contact the system manager.

NM06150-3

System name:

Health/Dental Research Center Data File (September 8, 2004, 69 FR 54275).

System location:

Naval Medical Research and Development Command, Naval Medical Research Institute, Naval Health Research Center, and/or Naval Dental Research Institute to which individual is assigned. Official mailing addresses are published in the Standard Navy Distribution List available at http://neds.daps.dla.mil/sndl.htm.

Categories of individuals covered by the system:

For medical: Navy and Marine Corps personnel on active duty since 1960 to date and civilians taking part in Operation Deep Freeze, 1964 to date; for U.S. Coast Guard, Air Force, and Army personnel on active duty since 1980.

For dental: Navy and Marine Corps personnel on active duty since 1967 to date.

Categories of records in the system:

Extracts of information from official medical/dental and personnel records, results of dental examinations conducted by staff research scientists, as well as information dealing with biographical, attitudes, and questions relating to medical and dental health patterns during active service or prior to active duty.

Authority for maintenance of the system:

10 U.S.C. 5013, Secretary of the Navy; 10 U.S.C. 3013, Secretary of the Army; 10 U.S.C. 8013, Secretary of the Air Force; 10 U.S.C. 5041, Headquarters, Marine Corps; 14 U.S.C. 93, Commandant, U.S. Coast Guard General Powers; and E.O. 9397 (SSN).

Purpose(s):

To research, monitor and analyze the types and frequency of medical and dental diseases and illnesses in Navy, Marine Corps, U.S. Coast Guard, Air Force, and Army personnel.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” that appear at the beginning of the Navy's compilation of systems of records notices apply to this system.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining, and disposing of records in the system:

Storage:

Paper and automated records.

Retrievability:

Retrievability is by Social Security Number or service number as appropriate for military and former military personnel. Civilians are by name only.

Safeguards:

Access is restricted to personnel having a need to work with the research data stored. Access is controlled by password for health records stored on magnetic tape. Computerized dental research records contain I.D. numbers that can be matched to Social Security Numbers on code sheets maintained by research personnel.

Retention and disposal:

Research records are permanent. Paper records, if used, are maintained for five years at the activity performing the research and then retired to the Federal Records Center, St. Louis, MO.

System manager(s) and address:

Commanding Officer of the activity in question. Official mailing addresses are published in the Standard Navy Distribution List available at http://neds.daps.dla.mil/sndl.htm.

Notification procedure:

Individuals seeking to determine whether information about themselves is contained in this system should address written inquiries to the Commanding Officer of the activity in question.

Official mailing addresses are published in the Standard Navy Distribution List available at http://neds.daps.dla.mil/sndl.htm.

Navy, Marine Corps, U.S. Coast Guard, Air Force, and Army personnel and former serving members must provide a Social Security Number or service number as appropriate, give the branch of service, and years of active duty. Civilians in Operation Deep Freeze must identify themselves by full name and the year in which they wintered over.

Record access procedures:

Individuals seeking access to information about themselves contained in this system should address written inquiries to the Commanding Officer of the activity in question.

Official mailing addresses are published in the Standard Navy Distribution List available at http://neds.daps.dla.mil/sndl.htm.

Navy, Marine Corps, U.S. Coast Guard, Air Force, and Army personnel and former serving members must provide a Social Security Number or service number as appropriate, give the branch of service, and years of active duty. Civilians in Operation Deep Freeze must identify themselves by full name and the year in which they wintered over.

Contesting record procedures:

The Navy's rules for accessing records, and for contesting contents and appealing initial agency determinations are published in Secretary of the Navy Instruction 5211.5; 32 CFR part 701; or may be obtained from the system manager.

Record source categories:

Information is derived from (a) Medical Treatment Record Systems, including medical, dental, health records, inpatient treatment records and outpatient treatment records, (b) Personnel Records System and Personnel Rehabilitation Support System, (c) Enlisted Master File, (d) information provided by the members themselves on a volunteer basis in response to specific research questionnaires and forms, (e) information provided by the members' peers and superiors, and (f) the Defense Manpower Data Center.

Exemptions claimed for the system:

None.

NM12610-1

System name:

Hours of Duty Records (May 25, 2004, 69 FR 29705).

System location:

Organizational elements of the Department of the Navy. Official mailing addresses are published in the Standard Navy Distribution List available at http://neds.daps.dla.mil/sndl.htm.

Commander, U.S. Joint Forces Command, 1562 Mitscher Avenue, Suite 200, Norfolk, VA 23551-2488.

Commander, U.S. Pacific Command, P.O. Box 64028, Camp H.M. Smith, HI 96861-4028.

Categories of individuals covered by the system:

Military and civilian personnel.

Categories of records in the system:

Record contains such information as name, grade/rate, Social Security Number, organizational code, work center code, grade code, pay rate, labor code, type transaction, hours assigned.

Database includes scheduling and assignment of work; skill level; tools issued; leave; temporary assignments to other areas.

Authority for maintenance of the system:

10 U.S.C. 5013, Secretary of the Navy; 10 U.S.C. 5041, Headquarters, Marine Corps; and E.O. 9397 (SSN).

Purpose(s):

To effectively manage the work force.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper and computerized records.

Retrievability:

Name, organization code, Social Security Number, and work center.

Safeguards:

Access is provided on need-to-know basis only. Manual records are maintained in file cabinets under the control of authorized personnel during working hours. The office space in which the file cabinets are located is locked outside of official working hours. Computer terminals are located in supervised areas. Access to computerized data is controlled by password or other user code system.

Retention and disposal:

Records are destroyed when three years old.

System manager(s) and address:

The commanding officer of the activity in question. Official mailing addresses are published in the Standard Navy Distribution List available at http://neds.daps.dla.mil/sndl.htm.

Notification procedure:

Individuals seeking to determine whether this system of records contains information about themselves should address written inquiries to the commanding officer of the naval activity where currently employed. Official mailing addresses are published in the Standard Navy Distribution List available at http://neds.daps.dla.mil/sndl.htm.

Record access procedures:

Individuals seeking access to records about themselves contained in this system of records should address written inquiries to the commanding officer of the naval activity where currently employed. Official mailing addresses are published in the Standard Navy Distribution List available at http://neds.daps.dla.mil/sndl.htm.

Contesting record procedures:

The Navy's rules for accessing records, and for contesting contents and appealing determinations are published in Secretary of the Navy Instruction 5211.5; 32 CFR part 701; or may be obtained from the system manager.

Record source categories:

Individual, correspondence, and personnel records.

Exemptions claimed for the system:

None.

[FR Doc. 04-25336 Filed 11-15-04; 8:45 am]

BILLING CODE 5001-06-P